DEPARTMENT OF COMMERCE

National Oceanic and Atmospheric Administration

[RTID 0648-XB413]

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold public meetings of the Council and its Executive Committee.

DATES: The meetings will be held Tuesday, October 5, 2021 through Wednesday, October 6, 2021. For agenda details, see SUPPLEMENTARY INFORMATION.

ADDRESSES: This meeting will be conducted entirely by webinar. Webinar registration details will be available on the Council's website at https://www.mafmc.org/briefing/october-2021.

Council address: Mid-Atlantic Fishery Management Council, 800 N State St., Suite 201, Dover, DE 19901; telephone: (302) 674-2331; www.mafmc.org.

FOR FURTHER INFORMATION CONTACT: Christopher M. Moore, Ph.D. Executive Director, Mid-Atlantic Fishery Management Council; telephone: (302) 526-5255. The Council's website, www.mafmc.org also has details on the meeting location, proposed agenda, webinar listen-in access, and briefing materials.

SUPPLEMENTARY INFORMATION: The following items are on the agenda, although agenda items may be addressed out of order (changes will be noted on the Council's website when possible.)

Tuesday, October 5th

Executive Committee (Closed Session)

Recommend Spiny Dogfish Advisory Panel Vacancy Appointments.

Executive Committee—2022 Implementation Plan (Open Session)

Review progress on 2021 Implementation Plan.

Review staff recommendations for 2022 actions and deliverables.

Public comment opportunity.

Approve draft actions and deliverables for further development in 2022 Implementation Plan.

HMS Diet Study Report

Walt Golet, University of Maine/Gulf of Maine Research Institute.

Chub Mackerel Specifications Review

Review recommendations from the Advisory Panel, SSC, and Monitoring Committee.

Review previously set 2022 chub mackerel specifications and recommend any changes if necessary.

Atlantic Mackerel Rebuilding

Review SSC's September 2021 meeting results regarding rebuilding.

Provide additional guidance regarding rebuilding plan modifications, if appropriate.

Wednesday, October 6th

Spiny Dogfish Specifications

Review SSC, Advisory Panel, Monitoring Committee, staff, and Committee recommendations for 2022 fishing year specifications.

Review staff trip limit analysis.

Review previously implemented 2022 specifications (including trip limit) and recommend changes if necessary.

Private Tilefish Reporting

Report from GARFO on Tilefish permitting and reporting numbers.

North Atlantic Right Whales

Atlantic Large Whale Take Reduction Team scoping for risk reduction measures for Atlantic trap/pot and gillnet fisheries.

Overview of June 2021 Scallop FMP Biological Opinion

New Incidental Take Statement, RPMs and Terms and Conditions, and Sea Turtle Monitoring Plan.

Business Session

Committee Reports (SSC, Executive Committee); Executive Director's Report; Organization Reports; and Liaison Reports.

Other Business and General Public Comment

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under section 305(c).

Special Accommodations

These meetings are physically accessible to people with disabilities. Requests for sign language interpretation or other auxiliary aid should be directed to Shelley Spedden, (302) 526-5251, at least 5 days prior to the meeting date.

Dated: September 8, 2021.
Tracey L. Thompson,
Acting Deputy Director, Office of Sustainable Fisheries, National Marine Fisheries Service.

[FR Doc. 2021-19682 Filed 9-10-21; 8:45 am]

BILLING CODE 3510-22-P